DEPARTMENT OF HEALTH AND HUMAN SERVICES

National Institutes of Health

National Institute of Neurological Disorders and Stroke; Amended Notice of Meeting

Notice is hereby given of a change in the meeting of the National Institute of Neurological Disorders and Stroke Special Emphasis Panel, NSD-A/B Member Conflict SEP, June 24, 2024, 10:00 a.m. to June 24, 2024, 12:00 p.m., National Institutes of Health, Neuroscience Center, 6001 Executive Boulevard, Rockville, MD 20852 (Virtual Meeting), which was published in the Federal Register on May 30, 2024, FR Doc. 2024-11973, 89 FR 47156.

This notice is being amended to change the date of this one-day meeting from June 24, 2025, to June 25, 2024. The meeting time remains the same. The meeting is closed to the public.

Dated: June 3, 2024.
Lauren A. Fleck,
Program Analyst, Office of Federal Advisory Committee Policy.

[FR Doc. 2024-12421 Filed 6-5-24; 8:45 am]

BILLING CODE 4140-01-P